DEPARTMENT OF TRANSPORTATION

Pipeline and Hazardous Materials Safety Administration

[Docket ID PHMSA-RSPA-2004-19854]

Notice of Public Webinar on Implementation of Gas Pipeline Distribution Integrity Management Programs

AGENCY: Pipeline and Hazardous Materials Safety Administration (PHMSA), DOT.

ACTION: Notice of Public Webinar.

SUMMARY: Gas distribution pipeline operators were required to have prepared and implemented distribution integrity management programs (DIMP) by August 2, 2011. Federal and state regulators have been inspecting those programs and their implementation since that date. This webinar will be an opportunity for the regulators to share their experience with implementation topics with the public and the regulated community. The webinar will also include discussion of analyses of the 2013 submissions of data concerning mechanical fitting failures in gas distribution pipelines.

DATES: The webinar will be held on September 4, 2014, from 11:00 a.m. to 12:30 p.m. EDT.

FOR FURTHER INFORMATION CONTACT: Chris McLaren by email at Chris.Mclaren@dot.gov or by phone at 281-216-4455.

ADDRESSES: Members of the public may attend this free webinar. To help assure that adequate space is provided, all attendees are required to register for the webinar at http://opsweb.phmsa.dot.gov/webinars. Upon registration, LiveMeeting information will be distributed. Due to the limited capacity, we encourage and request that parties at the same location share a LiveMeeting link for the video portion of the webinar and share a standard phone line for the teleconferenced voice portion of the webinar. Refer to the DIMP Web site for additional information on distribution integrity management: http://primis.phmsa.dot.gov/dimp/index.htm.

Copies of the presentations provided in the webinar will be available on the DIMP Web site within 30 days following the webinar.

Comments: Members of the public may also submit written comments, either before, during, or after the webinar. Comments should reference Docket ID PHMSA-RSPA-2004-19854. Comments and questions can be submitted during the webinar through LiveMeeting. Instructions describing how to submit questions will be given at the beginning of the webinar. Comments may be submitted before or after the webinar in the following ways:

• DIMP Web site: http://primis.phmsa.dot.gov/dimp/comment.htm. This site allows the public to enter questions and comments about DIMP before or after the webinar. Instructions for submitting comments are provided on that Web site.

• E-Gov Web site: http://www.regulations.gov. This site allows the public to enter comments on any Federal Register notice issued by any agency. Follow the instructions for submitting comments.

• Fax: 1-202-493-2251.

• Mail: Docket Management System, U.S. Department of Transportation, 1200 New Jersey Avenue SE., Room W12-140, Washington, DC 20590.

• Hand Delivery: Dot Docket Management System, Room W12-140, on the ground floor of the West Building, 1200 New Jersey Avenue SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act statement immediately following for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance during the webinar, please contact Chris McLaren at 281-216-4455 by August 4, 2014.

SUPPLEMENTARY INFORMATION: The DIMP final rule was published December 4, 2009, (74 FR 63906) and became effective on August 2, 2011. DIMP supplemented the existing requirements applicable to gas distribution pipeline systems by adding performance-based requirements for risk management. It requires pipeline operators to analyze their pipeline systems, identify threats and risks that may be unique to their systems and take appropriate actions to address those threats and risks. DIMP is designed to improve the safety performance of gas distribution pipelines by ensuring that distribution pipeline operators use available data and prioritize their risk mitigation activities.

A DIMP Implementation Team (Team) was created as a collaboration of state and Federal regulators to support improvements in the integrity of the Nation's gas distribution pipeline systems through development of inspection methods and guidance for the evaluation of an operator's distribution integrity management program. Regulation of gas distribution pipeline systems and oversight of DIMP implementation is largely the responsibility of PHMSA's state partners. The Team recognized the challenges posed by the individual characteristics of each state's oversight program and operating conditions as well as the challenges that distribution system operators would face in building an integrity management culture. Due to the high level, risk-based, performance-oriented nature of the regulations contained in §§ 192.1001 and 192.1015, the Team recognized that operators could benefit from guidance in implementing their programs. The team sponsored two webinars to provide operators with information and to direct operators to resource material prior to the August 2, 2011, effective date of the rule by which time operators were required to have developed and implemented their DIMP plans. These webinars were conducted on May 10, 2011, and June 8, 2011.

Following the August 2, 2011, deadline by which distribution pipeline operators must have developed and implemented their DIMP plans, the team sponsored a webinar on January 25, 2012, and a public meeting on June 27, 2012. The material presented at these events summarized early inspection experiences, including the types of concerns identified by regulators and operators and where the initial inspection experience indicates that operators should devote additional attention to assure compliance.

States are implementing the DIMP rule in accordance with the applicable certification under 49 U.S.C. 60105 or agreement under section 60106. State inspectors will participate in this webinar, but not all states may participate. Since regulatory structures differ among states and some states have established more stringent requirements, operators should contact the state authority regulating their distribution pipeline system for more information.

The DIMP rule also required distribution pipeline operators to report failures of mechanical fittings that result in hazardous leaks. Such failures have been the cause of a number of serious accidents on distribution pipelines. Collection of this data is intended to facilitate better understanding of the causes of fitting failures and actions that can/should be taken to prevent future failures. Operators have the option of submitting reports as failures occur or of submitting all reports for a calendar year by March 15 of the following year. The new reporting requirement became effective on April 4, 2011. Operators have submitted reports to PHMSA for failures occurring in 2011, and by the time of this webinar, operators will have submitted reports to PHMSA for failures occurring in 2013. These reports will be analyzed prior to the webinar and PHMSA will discuss the results of these analyses. Stakeholders should note that lessons from mechanical fitting failure reporting may be preliminary at this time. With only three years' worth of data, any trends or analyses will be based on a limited set of data. The analyses will provide some information that will be shared with stakeholders.

Preliminary Webinar Agenda

September 4, 2014 DIMP Implementation Webinar Agenda

• Welcome, Introductions, and Overview

• A new DIMP Inspection Form for Field Observations and Records Review

• Regulator's Inspection Findings from DIMP inspections Conducted to Date

• Mechanical Fitting Failure Reporting Data and Analyses

• Operator Discussion on Successes and Lessons Learned from Implementing DIMP

• Plastic Pipe Ad Hoc Committee (NAPSR and PHMSA Team) Activities

• Question & Answer Session

• Session Concludes

Issued in Washington, DC on July 17, 2014.
Alan K. Mayberry,
Deputy Associate Administrator for Policy and Programs.

[FR Doc. 2014-17250 Filed 7-22-14; 8:45 am]

BILLING CODE 4910-60-P